DEPARTMENT OF COMMERCE

Foreign-Trade Zones Board

[Order No. 1880]

Reorganization of Foreign-Trade Zone 204 Under Alternative Site Framework Tri-Cities, Tennessee/Virginia

Pursuant to its authority under the Foreign-Trade Zones Act of June 18, 1934, as amended (19 U.S.C. 81a-81u), the Foreign-Trade Zones Board (the Board) adopts the following Order:

Whereas, the Board adopted the alternative site framework (ASF) (74 FR 1170-1173, 01/12/2009; correction 74 FR 3987, 01/22/2009; 75 FR 71069-71070, 11/22/2010) as an option for the establishment or reorganization of general-purpose zones;

Whereas, the Tri-Cities Airport Commission, grantee of Foreign-Trade Zone 204, submitted an application to the Board (FTZ Docket 19-2012, filed 03/20/2012) for authority to reorganize under the ASF with a service area of the Counties of Sullivan, Hawkins, Greene, Washington, Unicoi, Carter, Hamblen and Johnson, Tennessee and the Counties of Buchanan, Dickenson, Wise, Lee, Russell, Scott and Washington, Virginia and the Cities of Norton and Bristol, Virginia, within and adjacent to the Tri-Cities Customs and Border Protection port of entry. FTZ 204's Sites 1 through 9 and 11 would be categorized as magnet sites;

Whereas, notice inviting public comment was given in the Federal Register (77 FR 17408, 03/26/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 204 under the alternative site framework is approved, subject to the FTZ Act and the Board's regulations, including Section 400.13, to the Board's standard 2,000-acre activation limit for the zone, and to a five-year ASF sunset provision for magnet sites that would terminate authority for Sites 2 through 9 and 11 if not activated by January 31, 2018.

Signed at Washington, DC, this 6th day of February 2013.
Paul Piquado,
Assistant Secretary of Commerce for Import Administration, Alternate Chairman, Foreign-Trade Zones Board.

ATTEST:

Andrew McGilvray,
Executive Secretary.

[FR Doc. 2013-04279 Filed 2-22-13; 8:45 am]

BILLING CODE 3510-DS-P